DEPARTMENT OF JUSTICE

Notice of Lodging of Proposed Consent Decree Under the Clean Air Act

On December 4, 2023, the Department of Justice filed a complaint in, and simultaneously lodged a proposed Clean Air Act Consent Decree with the United States District Court for the Eastern District of Michigan in the lawsuit entitled United States and the Michigan Department of Environment, Great Lakes, and Energy v. R.J. Torching, Inc., Civil Action No. 23-CV-13056.

Simultaneous with this lodging, the United States and the Michigan Department of Environment, Great Lakes, and Energy (the “State”) filed a complaint against the Defendant, R.J. Torching, Inc. (“Defendant”). The complaint seeks injunctive relief and civil penalties for violations of the regulations that limit particulate matter pollution from Defendant's torch-cutting operations in Flint and (previously) Battle Creek, Michigan. The Consent Decree requires Defendant to perform injunctive relief and pay a $150,000 penalty.

The publication of this notice opens a period for public comment on the consent decree. Comments should be addressed to the Assistant Attorney General, Environment and Natural Resources Division, and should refer to United States and the Michigan Department of Environment, Great Lakes, and Energy v. R.J. Torching, Inc., D.J. Ref, No. 90-5-2-1-12118. All comments must be submitted no later than January 31, 2024. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department website: http://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $22.25 (25 cents per page reproduction cost) payable to the United States Treasury. For a paper copy without the exhibits and signature pages, the cost is $15.50.

Patricia McKenna,
Assistant Section Chief, Environmental Enforcement Section, Environment and Natural Resources Division.

[FR Doc. 2023-26944 Filed 12-7-23; 8:45 am]

BILLING CODE 4410-15-P